DEPARTMENT OF ENERGY

Federal Energy Regulatory Commission

[Docket No. RP00-475-000]

Trunkline Gas Company; Notice of Technical Conference

August 21, 2001.

On August 15, 2000, Trunkline Gas Company (Trunkline) filed in Docket No. RP00-475-000 to comply with Order No. 637.

Take notice that a technical conference to discuss the various issues raised by Trunkline's filing will be held on Wednesday, September 19, 2001, at 10:00 a.m., in a room to be designated at the offices of the Federal Energy Regulatory Commission, 888 First Street, N.E., Washington, D.C., 20426. Persons protesting any aspects of Trunkline's filing should be prepared to defend their positions as well as discuss alternatives.

The issues to be discussed will include but are not limited to:

Segmentation

Flexible Point Rights

Discount Provisions

Imbalance Services

Penalties

Operational Flow Orders

The above schedule may be changed as circumstances warrant.

Linwood A. Watson, Jr.,
Acting Secretary.

[FR Doc. 01-21553 Filed 8-24-01; 8:45 am]

BILLING CODE 6717-01-P